OFFICE OF PERSONNEL MANAGEMENT

5 CFR Part 532

RIN 3206-AN93

Prevailing Rate Systems; Definition of Johnson County, Indiana, to a Nonappropriated Fund Federal Wage System Wage Area

AGENCY: Office of Personnel Management.

ACTION: Final rule.

SUMMARY: The Office of Personnel Management (OPM) is issuing a final rule to define Johnson County, Indiana, as an area of application county to the Hardin-Jefferson, Kentucky, nonappropriated fund (NAF) Federal Wage System (FWS) wage area. This change is necessary because there is one NAF FWS employee working in Johnson County, and the county is not currently defined to a NAF wage area.

DATES:

Effective date: This regulation is effective February 6, 2020.

Applicability date: This change applies on the first day of the first applicable pay period beginning on or after February 6, 2020.

FOR FURTHER INFORMATION CONTACT: Madeline Gonzalez, by telephone at (202) 606-2858 or by email at pay-leave-policy@opm.gov.

SUPPLEMENTARY INFORMATION: On September 20, 2019, OPM issued a proposed rule (84 FR 49483) to define Johnson County, IN, as an area of application county to the Hardin-Jefferson, KY, NAF FWS wage area.

The Federal Prevailing Rate Advisory Committee (FPRAC), the national labor-management committee responsible for advising OPM on matters concerning the pay of FWS employees, reviewed and recommended these changes by consensus.

The proposed rule had a 30-day comment period, during which OPM received no comments.

Regulatory Impact Analysis

This action is not a “significant regulatory action” under the terms of Executive Order (E.O.) 12866 (58 FR 51735, October 4, 1993) and is therefore not subject to review under E.O. 12866 and 13563 (76 FR 3821, January 21, 2011).

Reducing Regulation and Controlling Regulatory Costs

This rule is not an Executive Order 13771 regulatory action because this rule is not significant under E.O. 12866.

Regulatory Flexibility Act

OPM certifies that this rule will not have a significant economic impact on a substantial number of small entities because they will affect only Federal agencies and employees.

Federalism

We have examined this rule in accordance with Executive Order 13132, Federalism, and have determined that this rule will not have any negative impact on the rights, roles and responsibilities of State, local, or tribal governments.

Civil Justice Reform

This regulation meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

This action pertains to agency management, personnel, and organization and does not substantially affect the rights or obligations of nonagency parties and, accordingly, is not a “rule” as that term is used by the Congressional Review Act (Subtitle E of the Small Business Regulatory Enforcement Fairness Act of 1996 (SBREFA)). Therefore, the reporting requirement of 5 U.S.C. 801 does not apply.

Paperwork Reduction Act

This rule does not impose any new reporting or record-keeping requirements subject to the Paperwork Reduction Act.

List of Subjects in 5 CFR Part 532

Administrative practice and procedure, Freedom of information, Government employees, Reporting and recordkeeping requirements, Wages.

Office of Personnel Management.
Alexys Stanley,
Regulatory Affairs Analyst.

Accordingly, OPM amends 5 CFR part 532 as follows:

PART 532—PREVAILING RATE SYSTEMS

1. The authority citation for part 532 continues to read as follows:

Authority: 5 U.S.C. 5343, 5346; § 532.707 also issued under 5 U.S.C. 552.

2. In Appendix D to subpart B amend the table by revising the wage area listing for the State of Kentucky to read as follows:

Appendix D to Subpart B of Part 532—Nonappropriated Fund Wage

* * * * *

Definitions of Wage Areas and Wage Area Survey Areas
* * * * *
KENTUCKY
Christian-Montgomery
Survey Area
Kentucky:
Christian
Tennessee:
Montgomery
Area of Application. Survey area.
Hardin-Jefferson
Kentucky:
Hardin
Jefferson
Area of Application. Survey area plus:
Indiana:
Jefferson
Johnson
Martin
Kentucky:
Fayette
Madison
Warren

* * * * *

[FR Doc. 2019-28008 Filed 1-6-20; 8:45 am]

BILLING CODE 6325-39-P